DEPARTMENT OF THE TREASURY

Customs Service

[T.D. 01-65]

Delegation of Authority To Acknowledge Waivers of the Statute of Limitations

AGENCY: Customs Service, Department of the Treasury.

ACTION: General notice.

SUMMARY: This notice announces that, effective January 1, 2001, Customs Headquarters has delegated to Fines, Penalties and Forfeitures (“FP&F”) Officers in the servicing Customs ports the authority, with a noted exception, to acknowledge waivers of the statute of limitations from parties who might otherwise be entitled to assert the statute of limitations as a defense against civil suit. The delegated authority does not extend to situations where the FP&F Officer has already referred to Customs Headquarters a pending petition, supplemental petition, offer, or other matter relating to an existing penalty or forfeiture case.

DATES: The delegation of authority to acknowledge waivers of the statute of limitations went into effect January 1, 2001.

ADDRESSES: Corporations and individuals submitting statute of limitations waivers should address the waivers to the Fines, Penalties and Forfeitures Officer of the servicing Customs port.

FOR FURTHER INFORMATION CONTACT: Alan Cohen, Penalties Branch, Office of Regulations and Rulings, U.S. Customs Service, (202) 927-1503.

SUPPLEMENTARY INFORMATION:

Background

Section 621 of the Tariff Act of 1930, as amended (19 U.S.C. 1621), is the statute of limitations for the Government to initiate judicial proceedings to enforce the collection of a monetary penalty or forfeiture of property accruing under the customs laws. Pursuant to 19 U.S.C. 1621, the Government, as a general rule, must initiate such judicial proceedings within 5 years from the time that an alleged offense is discovered, or in the case of forfeiture, within 2 years after the time when the involvement of the property in the event was discovered, whichever is later. For non-fraudulent violations of 19 U.S.C. 1592 or 1593a, however, the Government must initiate judicial proceedings within 5 years from the date of the alleged violation. For violations of 19 U.S.C. 1592 or 1593a arising out of fraud, the Government must commence suit within 5 years from the date of discovery of fraud.

The administrative procedures established by 19 U.S.C. 1592(b) and 1618, and implemented by parts 162 and 171 of the Customs Regulations (19 CFR parts 162 and 171), set forth the manner by which certain penalty and forfeiture actions are processed. In certain circumstances, Customs will shorten the time in which a party has to provide information to Customs or petition for relief in order to ensure that Customs can administratively pursue the penalty or forfeiture action before the statute of limitations expires. For example, §§ 162.78(a) and 171.2(e) of the Customs Regulations (19 CFR 162.78(a) and 171.2(e)) provide a Fines, Penalties & Forfeitures (“FP&F”) Officer with authority to shorten the time a party has to respond to pre-penalty and penalty notices if there is a short period of time remaining before the statute of limitations expires.

A party may wish to waive the statute of limitations for a period of time so that the administrative process may continue in an orderly fashion. A waiver of the statute of limitations may provide a party with additional time to respond to a pre-penalty, penalty or seizure notice, and promote final disposition of the matter by administrative means without resorting to judicial action.

In T.D. 69-126, dated May 20,1969, at paragraphs (1)(A)(b)(2) and (3), the Director, Division of Entry Procedures and Penalties, Office of Regulations and Rulings, U.S. Customs Service, was delegated the authority to make decisions with regard to certain penalty claims. Inherent in this delegation is the authority to acknowledge a waiver of the statute of limitations.

The functions of the Director, Division of Entry Procedures and Penalties, regarding penalty and forfeiture matters now reside with the Director, International Trade Compliance Division, pursuant to the reorganization of the Office of Regulations and Rulings which was effective December 30, 1990.

In a Customs memorandum referenced 635783 ACC, dated December 22, 2000, the Director, International Trade Compliance Division, notified all FP&F Officers that, effective January 1, 2001, they are delegated the authority to provide acknowledgement of legally sufficient waivers, except where the FP&F Officer has referred to Customs Headquarters a pending petition, supplemental petition, offer, or other matter relating to an existing penalty or forfeiture case. In this situation, the FP&F Officer will continue to forward waivers to Customs Headquarters for consideration.

Corporations and individuals submitting statute of limitations waivers to Customs should address their submissions to the FP&F Officer of the servicing Customs port, and should no longer submit waivers to Customs Headquarters.

Dated: September 12, 2001.
Sandra L. Bell,
Director, International Trade Compliance Division, Office of Regulations and Rulings.

[FR Doc. 01-23196 Filed 9-17-01; 8:45 am]

BILLING CODE 4820-02-P